FEDERAL COMMUNICATIONS COMMISSION

47 CFR Parts 51 and 54

[WC Docket Nos. 10-90, 07-135, 05-337, 03-109; GN Docket No. 09-51; CC Docket Nos. 01-92, 96-45; WT Docket No. 10-208; FCC 11-161]

Connect America Fund; A National Broadband Plan for Our Future; Establishing Just and Reasonable Rates for Local Exchange Carriers; High-Cost Universal Service Support

AGENCY: Federal Communications Commission.

ACTION: Final rule; announcement of effective date.

SUMMARY: In this document, the Federal Communications Commission (Commission) announces that the Office of Management and Budget (OMB) has approved, for a period of three years, the information collection associated with the Commission's Connect America Fund; A National Broadband Plan for Our Future; Establishing Just and Reasonable Rates for Local Exchange Carriers; High-Cost Universal Service Support, Report and Order, (Order), released on November 18, 2011. The Commission submitted revisions to information collections under control number 3060-0986 to the OMB for review and approval, as required by the Paperwork Reduction Act (PRA) of 1995 (44 U.S.C. 3501-3520), 77 FR 13320, March 6, 2012, which were approved by the OMB on April 16, 2012. This notice is consistent with the Order, which stated that the Commission would publish a document in the Federal Register announcing the effective date of those rules once it receives OMB approval. This document also notifies Eligible Telecommunications Carriers and other stakeholders that information filed pursuant to § 54.313(a)(2) through (a)(6) and (h) of the Commission's rules must be filed by July 2, 2012.

DATES: Effective date: Sections 54.312(b)(3), 54.313(b), 54.313(h), 54.314 and 54.320(b), published at 76 FR 73830, November 29, 2011, are effective May 8, 2012.

Applicability date: Sections 54.305(f), 54.307(b) and (c), and 54.313 (a)(1) through (a)(6) are applicable May 8, 2012.

FOR FURTHER INFORMATION CONTACT: Alex Minard, Wireline Competition Bureau, (202) 418-7400.

SUPPLEMENTARY INFORMATION: This document announces that, on April 13, 2012, OMB approved, for a period of six months, the information collection requirements contained in the Commission's Order, FCC 12-11, published at 77 FR 12952, March 2, 2012. The OMB Control Number is 3060-0986. The Commission publishes this document as an announcement of the effective date of the revision to §§ 54.312(b)(3), 54.313(b), 54.313(h), 54.314 and 54.320(b), and an announcement of the applicability dates of §§ 54.305(f), 54.307(b) and (c), and 54.313 (a)(1) through (a)(6) . If you have any comments on the burden estimates listed below, or how the Commission can improve the collections and reduce any burdens caused thereby, please contact Judith Boley-Herman, Federal Communications Commission, Room 1-B441, 445 12th Street SW., Washington, DC 20554. Please include the OMB Control Number, 3060-0986, in your correspondence. The Commission also will accept comments via email. Please send them to PRA@fcc.gov.

The Wireline Competition Bureau also recently released a Public Notice in WC Docket Nos. 10-90, 07-135, 05-337, 03-109; GN Docket No. 09-51; CC Docket Nos. 01-92, 96-45; WT Docket No. 10-208 that notifies Eligible Telecommunications Carriers and other stakeholders that information filed pursuant to §§ 54.313(a)(2) through (a)(6) and (h) of the Commission's rules must be filed by July 2, 2012.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on April 16, 2012, for the information collection requirements contained in the Commission's rules at 47 CFR 54.312(b)(3), 54.313(b), 54.313(h), 54.314 and 54.320(b), and an announcement of the applicability dates of §§ 54.305(f), 54.307(b) and (c), and 54.313 (a)(1) through (a)(6).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0986.

The foregoing notice is required by the Paperwork Reduction Act of 1995, Public Law 104-13, October 1, 1995, and 44 U.S.C. 3507.

The total annual reporting burdens and costs for the respondents are as follows:

OMB Control Number: 3060-0986.

OMB Approval Date: April 16, 2012.

OMB Expiration Date: April 30, 2015.

Title: Competitive Carrier Line Count Report and Self-Certification as a Rural Carrier.

Form Number: Form 525.

Respondents: Business or other for-profit, not-for-profit institutions, and state, local or Tribal Government.

Number of Respondents and Responses: 4,934 respondents; 5,048 responses.

Estimated Time per Response: .50 hours to 80 hours.

Frequency of Response: On occasion, Quarterly, Annually, Third Party Disclosure requirements.

Obligation to Respond: Required to obtain or retain benefits. Statutory authority for this information collection is contained in 47 U.S.C. 151-154, 201-206, 214, 218-220, 251, 252, 254, 256, 303(r), 332, 403, 405, and 410.

Total Annual Burden: 163,435 hours.

Total Annual Cost: N/A.

Nature and Extent of Confidentiality: The Commission is not requesting that respondents submit confidential information to the Commission. We note that the Universal Service Administrative Company (USAC), who administers the universal service program, must preserve the confidentiality of all data obtained from respondents and contributors to the universal service support program mechanisms; must not use the data except for purposes of administering the universal service support program; and must not disclose data in company-specific form unless directed to do so by the Commission. Also, respondents may request materials or information submitted to the Commission be withheld from public inspection under 47 CFR 0.459 of the Commission's rules.

Needs and Uses: In November 2011, the Commission adopted a Report and Order, FCC 11-161, 76 FR 73830, November 29, 2011, Connect America Fund; A National Broadband Plan for Our Future; Establish Just and Reasonable Rates for Local Exchange Carriers; High-Cost Universal Service Support; Developing a Unified Intercarrier Compensation Regime; Federal-State Joint Board on Universal Service; Life-line and Link-Up; and Universal Service Reform—Mobility Fund.

The order provides that existing high-cost support for price cap incumbent local exchange carriers will be frozen at 2011 levels. In addition, the order provides for up to $300 million annually in incremental support to those carriers, to be allocated by the use of a cost equation. Carriers accepting such incremental funding will be required to meet defined broadband deployment obligations. Eligible carriers will be required to notify the Commission, the universal service fund Administrator, as well as relevant state and Tribal authorities of the amount, if any, of funds they accept. Carriers accepting funding must certify that (a) the locations that will be served in satisfaction of the deployment requirement associated with its identified funds are shown as unserved by fixed terrestrial broadband on the then-current version of the National Broadband Map; (b) to the best of the carrier's knowledge, its identified locations are, in fact, unserved by fixed terrestrial broadband; (c) the carrier's current capital improvement plan did not already include plans to complete broadband deployment, without CAF Phase I incremental support, within the next three years to the locations to be counted to satisfy its deployment requirement; and (d) incremental support will not be used to satisfy any merger commitment or similar regulatory obligation. Carriers accepting funding will also be required to identify, for each location to be counted toward satisfaction of the carrier's deployment obligation, the following information: The location's census block information based on the Federal Information Processing Standard (FIPS) code, the carrier's NECA-assigned operating company code (OCN), the carrier's study area code (SAC), the wire center's eight-digit Common Language Location Identifier (CLLI) code, the latitude (to 6 decimal places), and the longitude (to 6 decimal places). Carriers accepting funding have the option of providing all of the required location-identifying information at the time they file their notice of acceptance of support, or, in the alternative, they may elect to only identify the census blocks and wire centers where they will deploy. Carriers electing this latter option must provide all required information for each location no later than one year after filing notices of acceptance for purposes of satisfying the carrier's deployment obligation. That is, carriers electing to initially provide only census block and wire center information must provide complete location information for all of their locations no later than one year after they file their notices of acceptance.

The order also adopts a rule to reduce, dollar-for-dollar, a carrier's high-cost loop support (for rate-of-return carriers) or Connect America Fund Phase I frozen high-cost support (for price cap carriers) to the extent that the carrier's local end user rate plus state regulated fees do not meet a specified urban rate floor. Accordingly, carriers will be required to report, on an annual basis, the local end user rates that fall below the specified urban rate floor, and the number of lines associated with each rate so that the universal service fund Administrator can calculate reductions in support.

The order also modifies § 54.307 of the Commission's rules, 47 CFR 54.307, (often called the “identical support rule”) and related rules, which provide that competitive eligible telecommunications carriers receive the same per-line level of support as received by incumbent LECs serving the same areas. Competitive eligible telecommunications carriers, with limited exceptions, will not continue to receive support pursuant to the identical support rule and will have their support phased down over five years. (The limited exceptions relate to certain competitive eligible telecommunications carriers serving remote parts of Alaska and a single Tribally-owned competitive eligible telecommunications carrier. For these carriers, the phasedown is delayed by five years.) As a result, the Commission will be reducing the burdens associated with a number of collections in this control number, including line count filings for competitive ETCs and incumbent LECs serving competitive areas, disaggregation plans (which permit incumbent LECs to target support for the purpose of calculating per-line support amounts), and certifications for carriers serving Tribal lands and Alaska native regions. In addition, the Commission eliminates the “own costs” exception to the interim cap for competitive ETCs. The interim cap limited the total annual amount of high-cost support competitive ETCs in any state could receive to the amount competitive ETCs in that state received in March 2008 on an annualized basis. The “own costs” exception provided that competitive ETCs that showed that they met the support threshold in the same manner as the incumbent LEC would not be subject to the cap. Eliminating the “own costs” exception does not alter the content of this information collection; it does, however, address and satisfy the terms of clearance in the May 2009 Notice of Office of Management and Budget Notice of Approval.

The order also revises the certifications that states (or ETCs that are not subject to state jurisdiction) are required to file annually with the Commission and the universal service fund Administrator to ensure that carriers use universal service support “only for the provision, maintenance and upgrading of facilities and services for which the support is intended” consistent with section 254(e) of the Act. Although the existing certifications are prospective only, the revised certification will ensure that carriers not only will use support in the next year for the intended purposes, but also have used support in the prior year for the intended purposes.

The order also eliminates eligibility for Safety Net Additive support for costs incurred after 2009. Accordingly, this collection is being revised to eliminate the requirement that carriers notify the Commission and USAC that they qualify for Safety Net Additive Support.

The order also eliminates the distinction between “rural” and “non-rural” carriers. Therefore, this collection is being revised to eliminate the reporting requirements for self-certification as a rural carrier.

The order also moves the recordkeeping requirement from 47 CFR 54.202(e) to new 47 CFR 54.320. It also increases the required document retention period from five to ten years and makes clear that carriers are subject to random compliance audits and other investigations and must make all documents and records available to the Commission, any of its Bureaus or Offices, the USF Administrator, and their respective auditors.

The order extends current federal annual reporting requirements to all ETCs, including those designated by states. Specifically, the order requires that all ETCs must include in their annual reports the information that is currently required by § 54.209(a)(1) through (a)(6)—specifically, a progress report on their five-year build-out plans; data and explanatory text concerning outages; unfulfilled requests for service; complaints received; certification of compliance with applicable service quality and consumer protection standards; and certification of its ability to function in emergency situations. All ETCs that receive high-cost support will file this information with the Commission, USAC, and the relevant state commission, relevant authority in a U.S. Territory, or Tribal government, as appropriate.

Finally, this submission eliminates the recordkeeping requirements from OMB Control Number 3060-0894. Upon OMB approval of this information collection revision, the Commission will voluntarily discontinue OMB Control Number 3060-0894.

The Commission plans to submit additional revisions or new collections for OMB review and approval to address other reforms adopted in the Order at a later date.

Federal Communications Commission.
Marlene H. Dortch,
Secretary.

[FR Doc. 2012-10631 Filed 5-7-12; 8:45 am]

BILLING CODE 6712-01-P